DEPARTMENT OF ENERGY

Federal Energy Regulatory Commission

[Project No. 13245-000]

UEK Delaware L.P.; Notice of Preliminary Permit Application Accepted for Filing and Soliciting Comments, Motions To Intervene, and Competing Applications

September 4, 2008.

On June 19, 2008 and supplemented on August 28, 2008, UEK Delaware L.P. filed an application, pursuant to section 4(f) of the Federal Power Act, proposing to study the feasibility of the Indian River Tidal Hydrokinetic Energy Project, located on the Indian River in Sussex County, Delaware. The project uses no dam or impoundment.

The proposed project would consist of: (1) 25 bi-directional turbine generating units, with a total installed capacity of 10-megawatts, (2) an underwater cable 400 feet in length, (3) a transmission line 100 feet in length, and (4) appurtenant facilities. The project is estimated to have an annual generation of 55.503 gigawatts-hours, which would be sold into PJM.

Applicant Contact: Mr. David O. Rickards, UEK Delaware L.P., 34612 Rickards Road, Frankford, DE 19945, phone (302) 539-9034.

FERC Contact: Kelly Houff (202) 502-6393.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13245) in the docket number field to access the document. For assistance, call toll-free 1-866-208-3372.

Kimberly D. Bose,
Secretary.

[FR Doc. E8-21063 Filed 9-10-08; 8:45 am]

BILLING CODE 6717-01-P